SOCIAL SECURITY ADMINISTRATION

The Ticket to Work and Work Incentives Advisory Panel Meeting

AGENCY: Social Security Administration (SSA).

ACTION: Notice of meeting.

DATES: March 26, 2001, 10:00 a.m.-5:00 p.m.; March 27, 2001, 9:00 a.m.-5:00 p.m.; March 28, 2001, 9:00 a.m.-4:00 p.m.

ADDRESSES: Sheraton Crescent Hotel, 2620 W. Dunlap Avenue, Phoenix, AZ 85021, (602) 943-8220 phone, (602) 371-2857 fax.

SUPPLEMENTARY INFORMATION: Type of meeting: This meeting is open to the public. The public is invited to participate by coming to the address listed above. Public comment will be taken. The public is also invited to submit comments in writing on the implementation of the Ticket to Work and Work Incentives Improvement Act (TWWIIA) of 1999 at any time.

Purpose: In accordance with section 10(a)(2) of the Federal Advisory Committee Act, the Social Security Administration (SSA) announces a meeting of the Ticket to Work and Work Incentives Advisory Panel (the Panel). Section 101(f) of Public Law 106-170 establishes the Panel to advise the Commissioner of SSA, the President, and the Congress on issues related to work incentives programs, planning and assistance for individuals with disabilities as provided under section 101(f)(2)(A) of the TWWIIA. The Panel is also to advise the Commissioner on matters specified in section 101(f)(2)(B) of that Act, including certain issues related to the Ticket to Work and Self-Sufficiency Program established under section 101(a) of that Act.

Interested parties are invited to attend the meeting. The Panel will use the meeting time to receive public testimony, hear presentations, conduct full Panel deliberations on the implementation of TWWIIA, receive briefings and conduct business.

The Panel will meet in person commencing Monday, March 26, 2001 from 10:00 a.m. to 5 p.m., Tuesday, March 27, 2001 from 9:00 a.m. to 5:00 p.m. and Wednesday, March 28, 2001 from 9:00 a.m. to 4:00 p.m.

Agenda: Public testimony will be heard in person on Tuesday, March 27, 2001 from 9:30 a.m. to 12:00 a.m. Individuals interested in providing testimony in person should contact the Panel staff as outlined below to schedule time slots. Members of the public must schedule a timeslot in order to comment.

Each presenter will be called on by the Chair in the order in which they are scheduled to testify and is limited to a maximum five-minute verbal presentation. Full written testimony on TWWIIA Implementation, no longer than 5 pages, may be submitted in person or by mail, fax or email on an on-going basis to the Panel for consideration.

In the event that the public comments do not take up the scheduled time period for public comment, the Panel will use that time to deliberate and conduct other Panel business.

Since seating may be limited, persons interested in providing testimony at the meeting should contact the Panel staff by e-mailing Kristen M. Breland, at kristen.m.breland@ssa.gov or calling (410) 966-7225.

The full agenda for the meeting follows this announcement. The agenda is posted on the Internet at http://www.ssa.gov/work/Resources/Toolkit/ or can be received in advance electronically or by fax upon request.

Contact Information: Anyone requiring information regarding the Panel should contact the TWWIIA Panel staff. Records are being kept of all Panel proceedings and will be available for public inspection by appointment at the Panel office. Anyone requiring information regarding the Panel should contact the Panel staff by:

• Mail addressed to Social Security Administration, Ticket to Work and Work Incentives Advisory Panel Staff, 107 Altmeyer Building, 6401 Security Boulevard, Baltimore MD, 21235.

• Telephone contact with Kristen Breland by telephone at (410) 966-7225.

• Fax at (410) 965-9063.

• E-mail to TWWIIAPanel@ssa.gov.

Dated: February 23, 2001.
Deborah M. Morrison,
Designated Federal Officer.

Ticket to Work and Work Incentives Advisory Panel—Public Meeting Agenda

Sheraton Crescent Hotel, 2620 W. Dunlap Avenue, Phoenix, AZ 85021, (602) 943-8220 phone, (602) 371-2857 fax

March 26, 27 and 28, 2001

Monday, March 26, 2001, Day 1

10:00 a.m.

Meeting Called to Order by Deborah Morrison, Designated Federal Officer

10:00 a.m. to 10:30 a.m.

Welcome and Introductions—Sarah Mitchell, Chair, Presiding

10:30 a.m. to 12:00 p.m.

Panel Deliberations on TWWIIA Implementation

12:00 p.m. to 1:30 p.m.

Lunch (On Your Own)

1:30 p.m.

Meeting Reconvenes, Sarah Mitchell, Presiding

1:30 p.m. to 3:00 p.m.

Panel Deliberations on TWWIIA Implementation 3:00 p.m. to 3:30 p.m.

Break

3:00 p.m. to 5:00 p.m.

Panel Deliberations on TWWIIA Implementation

5:00 p.m.

Adjournment

Tuesday, March 27, 2001, Day 2

9:00 a.m. to 9:30 a.m. Sarah Mitchell, Chair, Presiding

Meeting Reconvened

9:30 a.m. to 10:30 a.m.

Public Testimony Comment Period on TWWIIA Implementation

10:30 a.m. to 11:00 a.m.

Break

11:00 a.m. to 12:00 p.m.

Public Testimony Comment Period on TWWIIA Implementation Continued

12:00 p.m. to 1:30 p.m.

Lunch (On Your Own)

1:30 p.m.

Meeting Reconvenes Sarah Mitchell, Presiding

1:30 p.m. to 3:30 p.m.

Panel Deliberations on TWWIIA Implementation 3:30 p.m. to 3:45 p.m.

Break

3:45 p.m. to 5:00 p.m.

Panel Deliberations on TWWIIA Implementation

Please Note: In the event that the public comments do not take up the scheduled time period, the Panel will use that time to deliberate and conduct other Panel business.

Wednesday, March 28, 2001 Day Three

9:00 a.m. to 9:30 a.m.

Sarah Mitchell, Chair, Presiding; Meeting Reconvened and Opening Remarks

9:30 a.m. to 10:30 a.m.

Panel Deliberations on TWWIIA Implementation

10:30 a.m. to 11:00 a.m.

Break

11:00 a.m. to 12:00 p.m.

Panel Deliberations on TWWIIA Implementation

12:00 p.m. to 1:30 p.m.

Lunch (On Your Own)

1:30 p.m.

Meeting Reconvenes Sarah Mitchell, Presiding

1:30 p.m. to 2:30 p.m.

Panel Deliberations on TWWIIA Implementation 2:30 p.m. to 3:00 p.m.

Break

3:00 p.m. to 4:00 p.m.

Administrative Discussions

4:00 p.m.

Adjournment

[FR Doc. 01-5020 Filed 3-1-01; 8:45 am]

BILLING CODE 4191-02-U